ENVIRONMENTAL PROTECTION AGENCY

[EPA-HQ-OAR-2004-0013; FRL—9936-23-OEI]

Proposed Information Collection Request; Comment Request; Part 70 State Operating Permit Program (Renewal)

AGENCY: Environmental Protection Agency (EPA).

ACTION: Notice.

SUMMARY: The Environmental Protection Agency (EPA) has submitted an information collection request (ICR), “Part 70 State Operating Permit Program (Renewal)” (EPA ICR No. 1587.13, OMB Control No. 2060-0243) to the Office of Management and Budget (OMB) for review and approval in accordance with the Paperwork Reduction Act (PRA) (44 U.S.C. 3501 et seq.). This is a proposed extension of the ICR, which is currently approved through October 31, 2015. Public comments were previously requested via the Federal Register on May 8, 2015. This notice allows for an additional 30 days for public comments. This ICR renewal covers state, local and tribal (state) air quality operating permitting programs under 40 CFR part 70, as authorized under Title V of the Clean Air Act (CAA or Act) for the period of November 1, 2015, through October 31, 2018. A fuller description of the ICR is given below, including its estimated burden and cost to the public. An agency may not conduct or sponsor and a person is not required to respond to a collection of information unless it displays a currently valid OMB control number.

DATES: Comments must be submitted on or before November 27, 2015.

ADDRESSES: Submit your comments, referencing Docket ID No. EPA-HQ-OAR-2004-0015, to (1) EPA online using https://www.regulations.gov (our preferred method), by email to a-and-r-docket@epa.gov, or by mail to: EPA Docket Center, Environmental Protection Agency, Mail Code 28221T, 1200 Pennsylvania Avenue NW., Washington, DC 20460, and (2) OMB via email to oira_submission@omb.eop.gov. Address comments to OMB Desk Officer for the EPA.

The EPA's policy is that all comments received will be included in the public docket without change including any personal information provided, unless the comment includes profanity, threats, information claimed to be Confidential Business Information or other information whose disclosure is restricted by statute.

FOR FURTHER INFORMATION CONTACT: Dylan C. Mataway-Novak, Air Quality Policy Division, Office of Air Quality Planning and Standards, C504-05, U.S. Environmental Protection Agency, Research Triangle Park, NC; telephone number: (919) 541-5795; fax number: (919) 541-5509; email address: mataway-novak.dylan@epa.gov.

SUPPLEMENTARY INFORMATION: Supporting documents which explain in detail the information that the EPA will be collecting are available in the public docket for this ICR. The docket can be viewed online at http://www.regulations.gov or in person at the EPA Docket Center, William Jefferson Clinton West Building, Room 3334, 1301 Constitution Avenue NW., Washington, DC. The telephone number for the Docket Center is (202) 566-1744. For additional information about the EPA's public docket, visit http://www.epa.gov/dockets.

Abstract: Title V of the CAA requires states to develop and implement a program for issuing operating permits to all sources that fall under any Act definition of “major” and certain other non-major sources that are subject to Federal air quality regulations. The Act further requires EPA to develop regulations that establish the minimum requirements for those state operating permits programs and to oversee implementation of the state programs. The EPA regulations setting forth requirements for the state operating permit program are found at 40 CFR part 70. The part 70 program is designed to be implemented primarily by state, local and tribal permitting authorities in all areas where they have jurisdiction.

In order to receive an operating permit for a major or other source subject to the permitting program, the applicant must conduct the necessary research, perform the appropriate analyses, and prepare the permit application with documentation to demonstrate that its facility meets all applicable statutory and regulatory requirements. Specific activities and requirements are listed and described in the Supporting Statement for the 40 CFR part 70 ICR.

Under 40 CFR part 70, state, local and tribal permitting authorities review permit applications, provide for public review of proposed permits, issue permits based on consideration of all technical factors and public input and review information submittals required of sources during the term of the permit. Also, under 40 CFR part 70, the EPA reviews certain actions of the permitting authorities and provides oversight of the programs to ensure that they are being adequately implemented and enforced. Consequently, information prepared and submitted by sources is essential for sources to receive permits, and for federal, state, local and tribal permitting authorities to adequately review the permit applications and thereby properly administer and manage the program.

Information that is collected is handled according to EPA's policies set forth in title 40, chapter 1, part 2, subpart B—Confidentiality of Business Information (see 40 CFR part 2). See also section 114(c) of the Act.

Respondents/affected entities: Industrial plants (sources); state, local and tribal permitting authorities.

Respondent's obligation to respond: Mandatory (see 40 CFR part 70).

Estimated number of respondents: 15,780 sources and 116 state, local and tribal permitting authorities.

Frequency of response: On occasion.

Total estimated burden: 5,168,815 hours (per year). Burden is defined at 5 CFR 1320.3(b).

Total estimated cost: $326,493,677 (per year). There are no annualized capital or operation & maintenance costs.

Changes in Estimates: There is a decrease of 144,871 hours per year for the estimated respondent burden compared with the ICR currently approved by OMB. This decrease is not likely a result of any new or changed federal program or mandate; but rather, the costs are largely related to the projected number of sources and permitting activity during the relevant three year period.

Courtney Kerwin,
Acting Director, Collection Strategies Division.

[FR Doc. 2015-27312 Filed 10-26-15; 8:45 am]

BILLING CODE 6560-50-P